DEPARTMENT OF THE INTERIOR

National Park Service

Notice of Availability of the Record of Decision; Elk Management Plan/Environmental Impact Statement for Theodore Roosevelt National Park

ACTION: Notice of Availability of the Record of Decision on the Elk Management Plan/Environmental Impact Statement for Theodore Roosevelt National Park, Billings and McKenzie Counties, ND.

SUMMARY: Pursuant to Section 102(2)(C) of the National Environmental Policy Act of 1969 (42 U.S.C. 4332(2)(C)), the National Park Service (NPS) announces the availability of the Record of Decision (ROD) for the Elk Management Plan/Environmental Impact Statement (Plan/EIS) for Theodore Roosevelt National Park (Park), Billings and McKenzie Counties, North Dakota. On June 4, the Midwest Regional Director approved the ROD for the project. As soon as practicable, the NPS will begin to implement the Preferred Alternative contained in the final Plan/EIS.

The NPS will implement the Preferred Alternative, as described in the final Plan/EIS released on March 8, 2010. The Preferred Alternative will make use of skilled public volunteers to assist the Park with culling the elk herd through the use of firearms. The initial reduction phase would reduce the elk herd, now estimated at 1,000 elk, to approximately 200 elk within 5 years, by removing approximately 275 elk per year. Following the initial reduction phase, the Park would take an additional 20 to 24 elk per year for the remaining 10 years of the Plan in order to maintain a consistent population level.

Following each year of the initial reduction phase, the NPS will evaluate the program in order to determine if its population goals are being met. If population goals are being achieved, the park will continue with the use of firearms. Should the park determine that its population goals are not being met following the first two years of the initial reduction phase, it would continue with direct reduction activities but would also have the ability to use a roundup or other capture method and then euthanize and/or translocate elk in order to meet its population objectives. Should the park need to capture animals, whether elk are euthanized or translocated will depend on whether adequate sampling has occurred to meet chronic wasting disease (CWD) surveillance goals, whether CWD is detected in the herd and whether there are willing recipients that can meet all Federal and State requirements to transport and receive live elk.

The ROD includes a statement of the decision made, synopses of other alternatives considered, the basis for the decision, a description of the environmentally preferable alternative, a finding on impairment of park resources and values, a listing of measures to minimize environmental harm, and an overview of public involvement in the decisionmaking process.

FOR FURTHER INFORMATION CONTACT: Superintendent Valerie Naylor, Theodore Roosevelt National Park, P.O. Box 7, Medora, North Dakota 58645-0007. You may also view the document via the Internet through the NPS Planning, Environment, and Public Comment Web site (http://parkplanning.nps.gov); click on the link to Theodore Roosevelt National Park.

Dated: July 21, 2010.
Ernest Quintana,
Regional Director, Midwest Region.

[FR Doc. 2010-21903 Filed 9-1-10; 8:45 am]

BILLING CODE 4312-AD-P